DEPARTMENT OF THE INTERIOR

National Park Service

[NPS-WASO-NAGPRA-NPS0029886; PPWOCRADN0-PCU00RP14.R50000]

Notice of Inventory Completion: Los Angeles County Museum of Natural History, Los Angeles, CA; Correction

AGENCY: National Park Service, Interior.

ACTION: Notice; correction.

SUMMARY: The Los Angeles County Museum of Natural History has corrected an inventory of human remains, published in a Notice of Inventory Completion in the Federal Register on August 5, 2019. This notice corrects the cultural affiliation. Lineal descendants or representatives of any Indian Tribe or Native Hawaiian organization not identified in this notice that wish to request transfer of control of these human remains should submit a written request to the Los Angeles County Museum of Natural History. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the Los Angeles County Museum of Natural History at the address in this notice by April 22, 2020.

ADDRESSES: Amy E. Gusick, NAGPRA Officer, Los Angeles County Museum of Natural History, 900 Exposition Boulevard, Los Angeles, CA 90007, telephone (213) 763-3370, email agusick@nhm.org.

SUPPLEMENTARY INFORMATION: Notice is here given in accordance with the Native American Graves Protection and Repatriation Act (NAGPRA), 25 U.S.C. 3003, of the correction of an inventory of human remains under the control of the Los Angeles County Museum of Natural History, Los Angeles, CA. The human remains were removed from the Antelope Valley in northern Los Angeles County and the southeast portion of Kern County, CA.

This notice is published as part of the National Park Service's administrative responsibilities under NAGPRA, 25 U.S.C. 3003(d)(3). The determinations in this notice are the sole responsibility of the museum, institution, or Federal agency that has control of the Native American human remains. The National Park Service is not responsible for the determinations in this notice.

This notice corrects the cultural affiliation published in a Notice of Inventory Completion in the Federal Register (84 FR 38048-38050, August 5, 2019). This correction is being made due to additional cultural affiliation information provided. Transfer of control of the items in this correction notice has not occurred.

Correction

In the Federal Register (84 FR 38049, August 5, 2019), column 1, paragraph 2, sentences 1 and 2 under the heading “Consultation” are corrected by substituting the following sentences:

A detailed assessment of the human remains was made by the Los Angeles County Museum of Natural History (LACMNH) professional staff in consultation with representatives of the San Manuel Band of Mission Indians, California (previously listed as the San Manual Band of Serrano Mission Indians of the San Manual Reservation); Fernandeño Tataviam Band of Mission Indians, a non-federally recognized Indian group; and the San Fernando Band of Mission Indians, a non-federally recognized Indian group. The Morongo Band of Mission Indians, California (previously listed as the Morongo Band of Cahuilla Mission Indians of the Morongo Reservation); Santa Rosa Indian Community of the Santa Rosa Rancheria, California; and the Tejon Indian Tribe were invited to consult but deferred to the San Manuel Band of Mission Indians, California (previously listed as the San Manual Band of Serrano Mission Indians of the San Manual Reservation).

In the Federal Register (84 FR 38050, August 5, 2019), column 2, sentence 1 is corrected by substituting the following sentence:

Pursuant to 25 U.S.C. 3001(2), there is a relationship of shared group identity that can be reasonably traced between the Native American human remains and the San Manuel Band of Mission Indians, California (previously listed as the San Manual Band of Serrano Mission Indians of the San Manual Reservation), as well as, the Fernandeño Tataviam Band of Mission Indians and the San Fernando Band of Mission Indians, both of which are non-federally recognized Indian groups.

Additional Requestors and Disposition

Lineal descendants or representatives of any Indian Tribe or Native Hawaiian organization not identified in this notice that wish to request transfer of control of these human remains should submit a written request with information in support of the request to Amy Gusick, Los Angeles County Museum of Natural History, 900 Exposition Boulevard, Los Angeles, CA 90007, telephone (213) 763-3370, email agusick@nhm.org, by April 22, 2020. After that date, if no additional requestors have come forward, transfer of control of the human remains to the San Manuel Band of Mission Indians, California (previously listed as the San Manual Band of Serrano Mission Indians of the San Manual Reservation); Fernandeño Tataviam Band of Mission Indians (if joined to a request from the San Manuel Band of Mission Indians, California), and the San Fernando Band of Mission Indians (if joined to a request from the San Manuel Band of Mission Indians, California) may proceed.

The Los Angeles County Museum of Natural History is responsible for notifying The Consulted and Invited Indian Tribes and Groups that this notice has been published.

Dated: February 19, 2020.
Melanie O'Brien,
Manager, National NAGPRA Program.

[FR Doc. 2020-06035 Filed 3-20-20; 8:45 am]

BILLING CODE 4312-52-P